DEPARTMENT OF EDUCATION

[Docket No. ED-2021-SCC-0159]

EDFacts Data Collection School Years 2022-23, 2023-24, and 2024-25 (With 2021-22 Continuation); Correction

AGENCY: Institute of Education Sciences, National Center for Education Statistics (NCES), Department of Education (ED).

ACTION: Correction notice.

SUMMARY: On March 29, 2022, the U.S. Department of Education published a 30-day comment period notice in the Federal Register with FR DOC# 2022-06553 (Page 18007, Column 1, Column 2, Column 3) seeking public comment for an information collection entitled, “EDFacts Data Collection School Years 2022-23, 2023-24, and 2024-25 (With 2021-22 Continuation)”. Instructions were provided in the Addresses section for how to access the information collection on Reginfo.gov. The purpose of this notice is to provide further clarification on how to access the documents for review and comment. Reginfo.gov provides two links to view documents related to this information collection request. Information collection forms and instructions may be found by clicking on the “View Information Collection (IC) List” link. Supporting statements and other supporting documentation may be found by clicking on the “View Supporting Statement and Other Documents” link.

The PRA Coordinator, Strategic Collections and Clearance, Office of the Chief Data Officer, Office of Planning, Evaluation and Policy Development, hereby issues a correction notice as required by the Paperwork Reduction Act of 1995.

Dated: March 31, 2022.
Stephanie Valentine,
PRA Coordinator, Strategic Collections and Clearance, Office of the Chief Data Officer, Office of Planning, Evaluation and Policy Development.

[FR Doc. 2022-07142 Filed 4-4-22; 8:45 am]

BILLING CODE 4000-01-P